DEPARTMENT OF TRANSPORTATION

Office of the Secretary

Notice of Applications for Certificates of Public Convenience and Necessity and Foreign Air Carrier Permits Filed Under Subpart B (Formerly Subpart Q) During the Week Ending May 9, 2008

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2008-0154.

Date Filed: May 5, 2008.

Due Date for Answers, Conforming Applications, or Motion to Modify Scope:May 27, 2008.

Description: Application of Air Greco, Inc. d/b/a Wings Air requesting authority to conduct scheduled passenger operations as a commuter air carrier.

Docket Number: DOT-OST-2008-0158.

Date Filed: May 6, 2008.

Due Date for Answers, Conforming Applications, or Motion to Modify Scope:May 27, 2008.

Description: Joint Application of Aloha Airlines, Inc. (“AAI”) and Aeko Kula, Inc. d/b/a Aloha Air Cargo (“AKI”) requesting that the Department transfer AAI's certificate of public convenience and necessity (and certain other exemption authority) to AKI.

Docket Number: DOT-OST-2008-0127.

Date Filed: May 9, 2008.

Due Date for Answers, Conforming Applications, or Motion to Modify Scope:May 30, 2008.

Description: Application of Tradewinds Airlines, Inc. (“Tradewinds”) requesting (1) issuance of a certificate of public convenience and necessity authorizing it to provide scheduled foreign air transportation of property and mail between a point or points in the United States and a point in the People's Republic of China, via intermediate points, and beyond China to any point or points; (2) designation as the additional one (1) U.S. flag all-cargo carrier permitted by the MOC; and (2) allocation of six (6) of the fifteen (15) weekly frequencies that become available March 25, 2009.

Docket Number: DOT-OST-2008-0127.

Date Filed: May 9, 2008.

Due Date for Answers, Conforming Applications, or Motion to Modify Scope:May 30, 2008.

Description: Application of Evergreen International Airlines, Inc. requesting a certificate of public convenience and necessity, a designation, and the allocation of six all-cargo frequencies to allow it to inaugurate scheduled all-cargo service to China on March 25, 2009.

Renee V. Wright,
Program Manager, Docket Operations, Federal Register Liaison.

[FR Doc. E8-13993 Filed 6-19-08; 8:45 am]

BILLING CODE 4910-9X-P